NUCLEAR REGULATORY COMMISSION

[Docket No. 50-461; NRC-2024-0046]

Constellation Energy Generation, LLC; Clinton Power Station, Unit 1; License Renewal and Record of Decision

AGENCY: Nuclear Regulatory Commission.

ACTION: Notice; issuance.

SUMMARY: The U.S. Nuclear Regulatory Commission (NRC) has issued Renewed Facility Operating License No. NPF-62 to Constellation Energy Generation, LLC (Constellation or the licensee) for Clinton Power Station, Unit 1 (Clinton). In addition, the NRC has prepared a record of decision (ROD) that supports the NRC's decision to issue Renewed Facility Operating License No. NPF-62.

DATES: Renewed Facility Operating License No. NPF-62 was issued on December 16, 2025.

ADDRESSES: Please refer to Docket ID NRC-2024-0046 when contacting the NRC about the availability of information regarding this document. You may obtain publicly available information related to this document using any of the following methods:

• Federal Rulemaking Website: Go to https://www.regulations.gov and search for Docket ID NRC-2024-0046. Address questions about Docket IDs in Regulations.gov to Bridget Curran; telephone: 301-415-1003; email: Bridget.Curran@nrc.gov. For technical questions, contact the individual(s) listed in the FOR FURTHER INFORMATION CONTACT section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. For the convenience of the reader, instructions about obtaining materials referenced in this document are provided in the “Availability of Documents” section.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Vaughn Thomas, Office of Nuclear Reactor Regulation, U.S. Nuclear Regulatory Commission, Washington, DC 20555-0001; telephone: 301-415-5897; email: Vaughn.Thomas@nrc.gov.

SUPPLEMENTARY INFORMATION:

I. Discussion

Notice is hereby given that the NRC has issued Renewed Facility Operating License No. NPF-62 to Constellation for Clinton. Constellation is the operator of the facility. Renewed Facility Operating License No. NPF-62 authorizes Constellation to operate Clinton at reactor core power levels not in excess of 3,473 megawatts thermal, in accordance with the provisions of the Clinton renewed facility operating license and the technical specifications. Notice is also given that the ROD that supports the NRC's decision to issue Renewed Facility Operating License No. NPF-62 is available, and its location is listed in the “Availability of Documents” section of this document.

As discussed in the ROD and the final supplemental environmental impact statement (SEIS), published as NUREG-1437, Supplement 63, “Generic Environmental Impact Statement for License Renewal of Nuclear Plants Regarding License Renewal for Clinton Power Station, Unit 1, Final Report,” dated August 2025, the final SEIS documents the NRC staff's environmental review, including the recommendation that the adverse environmental impacts of license renewal (LR) for Clinton are not so great that preserving the option of LR for energy-planning decisionmakers would be unreasonable. This recommendation is based on (1) the analysis and findings in the NRC's Generic Environmental Impact Statement for License Renewal of Nuclear Plants, (2) information provided in the environmental report submitted by Constellation, as supplemented, (3) the NRC staff's consultation with Federal, State, Tribal, and local agencies, (4) the NRC staff's independent environmental review, and (5) the NRC staff's consideration of public comments received during the scoping process and on the draft SEIS.

Clinton is a boiling water reactor located on Clinton Lake in DeWitt County, approximately 6 miles east of the city of Clinton in east-central Illinois. Constellation submitted its application for the renewed license, “Clinton Power Station, Unit 1 Application for Renewed Operating License,” on February 14, 2024, as supplemented by letters through April 10, 2025 (see “Availability of Documents” section of this document). The NRC staff has detemined that Constellation's application complies with the standards and requirements of the Atomic Energy Act of 1954, as amended (the Act), and the NRC's regulations. As required by the Act and NRC regulations in title 10 of the Code of Federal Regulations (10 CFR), the NRC has made appropriate findings, which are set forth in the renewed license.

A public notice of the NRC's acceptance for docketing of the LR application and an opportunity to request a hearing was published in the Federal Register on April 18, 2024 (89 FR 27805).

For further details with respect to this action, see: (1) Constellation's LR application for Clinton, dated February 14, 2024, as supplemented by letters through April 10, 2025; (2) the NRC's safety evaluation, dated August 2025; (3) the NRC's final SEIS, dated August 2025; and (4) the NRC's ROD, dated December 16, 2025.

II. Availability of Documents

The documents identified in the following table are available to interested persons through ADAMS, as indicated.

Document description | ADAMS Accession No.
Clinton Power Station, Unit 1 Application for Renewed Operating License, dated February 14, 2024 | ML24045A024.
Record of Decision, License Renewal Application, as Supplemented, for Clinton Power Station, Unit No. 1, dated December 16, 2025 | ML25246C224.
Safety Evaluation Report Related to the License Renewal of Clinton Power Station, Unit 1, dated August 2025 | ML25238A215.
NUREG-1437, Supplement 63, “Generic Environmental Impact Statement for License Renewal of Nuclear Plants Regarding License Renewal for Clinton Power Station, Unit 1, Final Report,” dated August 2025 | ML25212A224.
NUREG-1437, Revision 2, Volumes 1, 2, and 3, Generic Environmental Impact Statement for License Renewal of Nuclear Plants, dated August 2024 | ML24087A133 (Package).
Clinton Power Station, Unit 1, License Renewal Application—Supplement 1, dated November 27, 2024 | ML24332A050 (Package).
Clinton Power Station, Unit 1, License Renewal Application—Supplement 2, dated December 20, 2024 | ML24355A050.
Clinton Power Station, Unit 1, License Renewal Application—Supplement 3, dated January 30, 2025 | ML25030A182.
Clinton Power Station, Unit 1, License Renewal Application—Supplement 4, dated March 25, 2025 | ML25084A044.
Clinton Power Station, Unit 1, License Renewal Application—Supplement 5, dated April 10, 2025 | ML25100A083.
Clinton Power Station, Unit 1, License Renewal Application—Response to Requests for Additional Information Set 1, dated January 30, 2025 | ML25030A189 (Package).
Clinton Power Station, Unit 1, License Renewal Application—Response to Requests for Additional Information Set 1 (RAI 4.3.2-3), dated February 19, 2025 | ML25050A041.

Dated: December 17, 2025.
For the Nuclear Regulatory Commission.
Michele Sampson,
Director, Division of New and Renewed Licenses, Office of Nuclear Reactor Regulation.

[FR Doc. 2025-23462 Filed 12-18-25; 8:45 am]

BILLING CODE 7590-01-P